DEPARTMENT OF ENERGY

Federal Energy Regulatory Commission

Combined Notice of Filings # 1

September 12, 2008.

Take notice that the Commission received the following electric corporate filings:

Docket Numbers: EC08-123-000.

Applicants: J-POWER USA Generation, L.P.; DJ Power LLC; Freeport Power, LLC; Harbinger Independent Power Fund II, L.L; Harbinger Pinelawn LLC; NM Regal, LLC.

Description: J-POWER USA Generation LP et al. submits a joint application for authorization of Transactions and request for waivers and expedited consideration etc Pursuant to Section 203 of the Federal Power Act.

Filed Date: 09/09/2008.

Accession Number: 20080911-0110.

Comment Date: 5 p.m. Eastern Time on Tuesday, September 30, 2008.

Take notice that the Commission received the following exempt wholesale generator filings:

Docket Numbers: EG08-97-000.

Applicants: Walnut Creek Energy, LLC.

Description: Notice of Self Certification of Exempt Wholesale Generator Status.

Filed Date: 09/11/2008.

Accession Number: 20080911-5048.

Comment Date: 5 p.m. Eastern Time on Thursday, October 2, 2008.

Take notice that the Commission received the following electric rate filings:

Docket Numbers: ER97-837-007; ER99-3151-008; ER03-327-002; ER08-448-000; ER08-447-000;

Applicants: PSEG Inc; PSEG Nuclear LLC; PSEG Power Connecticut LLC; PSEG Fossil LLC.

Description: Public Service Electric and Gas Company's et al. response to FERC's data request & submission of Updates Market Power Analysis.

Filed Date: 09/02/2008.

Accession Number: 20080911-0079.

Comment Date: 5 p.m. Eastern Time on Tuesday, September 23, 2008.

Docket Numbers: ER07-758-012.

Applicants: Inland Empire Energy Center, L.L.C.

Description: Notice of Non-Material Change in Status.

Filed Date: 09/03/2008.

Accession Number: 20080903-5067.

Comment Date: 5 p.m. Eastern Time on Wednesday, September 24, 2008.

Docket Numbers: ER07-874-001; ER94-1061-029.

Applicants: Rainbow Energy Ventures LLC; Rainbow Energy Marketing Corporation.

Description: Rainbow Energy Ventures, LLC et al. requests for clarification as a Category 1 Seller Determination pursuant to Order 697 & 697-A.

Filed Date: 09/09/2008

Accession Number: 20080911-0073.

Comment Date: 5 p.m. Eastern Time on Tuesday, September 30, 2008.

Docket Numbers: ER08-1335-001.

Applicants: Southern Company Services, Inc.

Description: Southern Companies submits Substitute Third Revised Service Agreement 391, in its entirety and Substitute Fourth Revised Service Agreement 391 etc.

Filed Date: 09/10/2008.

Accession Number: 20080912-0117.

Comment Date: 5 p.m. Eastern Time on Wednesday, October 1, 2008.

Docket Numbers: ER08-1503-000.

Applicants: Duke Energy Carolinas, LLC.

Description: Duke Energy Carolinas, LLC submits a Notice of Succession.

Filed Date: 09/08/2008.

Accession Number: 20080909-0099.

Comment Date: 5 p.m. Eastern Time on Monday, September 29, 2008.

Docket Numbers: ER08-1504-000.

Applicants: PJM Interconnection, L.L.C.

Description: PJM Interconnection submits an executed Interconnection Service Agreement etc.

Filed Date: 09/08/2008.

Accession Number: 20080909-0098.

Comment Date: 5 p.m. Eastern Time on Monday, September 29, 2008.

Docket Numbers: ER08-1505-000.

Applicants: Midwest Independent Transmission System.

Description: Midwest Independent Transmission System Operator, Inc submit its Adjacent Balancing Authority Coordination Agreement.

Filed Date: 09/08/2008.

Accession Number: 20080909-0097.

Comment Date: 5 p.m. Eastern Time on Monday, September 29, 2008.

Docket Numbers: ER08-1506-000.

Applicants: Old Dominion Electric Cooperative, Inc.

Description: Old Dominion Electric Cooperative submits a Notice of Cancellation of the Amended and Restated Wholesale Power Contract.

Filed Date: 09/08/2008.

Accession Number: 20080909-0096.

Comment Date: 5 p.m. Eastern Time on Monday, September 29, 2008.

Docket Numbers: ER08-1508-000.

Applicants: California Independent System Operator Corporation.

Description: California Independent System Operator Corp submits proposed revisions to their 9/8/08 filing re allocation and auction of Congestion Revenue Rights for calendar year 2009.

Filed Date: 09/09/2008.

Accession Number: 20080910-0067.

Comment Date: 5 p.m. Eastern Time on Tuesday, September 30, 2008.

Docket Numbers: ER08-1509-000.

Applicants: Burgess Capital LLC.

Description: Burgess Capital, LLC submits petition for acceptance of initial tariff (FERC Electric Tariff, Original Volume 1), waivers and blanket authority.

Filed Date: 09/09/2008.

Accession Number: 20080911-0109.

Comment Date: 5 p.m. Eastern Time on Tuesday, September 30, 2008.

Docket Numbers: ER08-1510-000.

Applicants: American Electric Power Service Corporation.

Description: AEP Operating Companies submits a fourth revision to the Interconnection and Local Delivery Service Agreement 1427 with the City of St Clairsville.

Filed Date: 09/09/2008.

Accession Number: 20080911-0072.

Comment Date: 5 p.m. Eastern Time on Tuesday, September 30, 2008.

Docket Numbers: ER08-1511-000.

Applicants: Kentucky Utilities Company.

Description: Kentucky Utilities Company informs that on 3/31/08 they submitted for filing an executed copy of Amendment 1 to Contract for Electric Service between Bardstown Municipal Electric Light & Power and KU.

Filed Date: 09/09/2008.

Accession Number: 20080911-0074.

Comment Date: 5 p.m. Eastern Time on Tuesday, September 30, 2008.

Docket Numbers: ER08-1512-000.

Applicants: ISO New England Inc.

Description: ISO New England, Inc submits the Installed Capacity. Requirement, Hydro Quebec Interconnection Capability Credits and related values for the 2011/2012 Capability Year under ER08-1512.

Filed Date: 09/09/2008.

Accession Number: 20080912-0116.

Comment Date: 5 p.m. Eastern Time on Tuesday, September 30, 2008.

Docket Numbers: ER08-1515-000.

Applicants: Southwest Power Pool, Inc.

Description: Southwest Power Pool, Inc submits an executed Meter Agent Services Agreement between Noble Great plains Windpark, LLC as the Market Participant and Southwestern Public Service Company as the Meter Agent under ER08-1515.

Filed Date: 09/10/2008.

Accession Number: 20080912-0114.

Comment Date: 5 p.m. Eastern Time on Wednesday, October 1, 2008.

Docket Numbers: ER08-1516-000.

Applicants: Southwest Power Pool, Inc.

Description: Southwest Power Pool, Inc submits an executed Joint Operating Agreement with Associated Electric Cooperative, Inc, effective 8/12/08 under ER08-1516.

Filed Date: 09/10/2008.

Accession Number: 20080912-0113.

Comment Date: 5 p.m. Eastern Time on Wednesday, October 1, 2008.

Docket Numbers: ER08-1517-000.

Applicants: Public Service Company of New Mexico.

Description: Public Service Company of New Mexico submits an executed Large Generator Interconnection Agreement between PNM and High Lonesome Mesa, LLC dated 8/11/08 and designated as Service Agreement etc under ER08-1517.

Filed Date: 09/10/2008.

Accession Number: 20080912-0112.

Comment Date: 5 p.m. Eastern Time on Wednesday, October 1, 2008.

Docket Numbers: ER08-1518-000.

Applicants: Virginia Electric and Power Company.

Description: Dominion Virginia Power submits a Notice of Cancellation and revised service agreement cover sheet to cancel a Generator Interconnection and Operating Agreement between Dominion and Southeastern Public Service etc under ER08-1518.

Filed Date: 09/10/2008.

Accession Number: 20080912-0111.

Comment Date: 5 p.m. Eastern Time on Wednesday, October 1, 2008.

Docket Numbers: ER08-1520-000.

Applicants: E. ON U.S. LLC.

Description: E.ON U.S LLC et al. submits proposed revisions to LG&E/KU joint Open Access Transmission Tariff under ER08-1520.

Filed Date: 09/10/2008.

Accession Number: 20080912-0110.

Comment Date: 5 p.m. Eastern Time on Wednesday, October 1, 2008.

Take notice that the Commission received the following electric securities filings:

Docket Numbers: ES08-62-000; ES08-63-000; ES08-64-000.

Applicants: PSEG Fossil LLC; PSEG Nuclear LLC; PSEG Energy Resources & Trade LLC.

Description: Application of PSEG Fossil LLC, PSEG Nuclear LLC and PSEG Energy Resources & Trade LLC for Renewal and Expansion of Authorization to Issue Securities in Connection with Credit Facilities.

Filed Date: 09/12/2008.

Accession Number: 20080912-5002.

Comment Date: 5 p.m. Eastern Time on Friday, October 3, 2008.

Take notice that the Commission received the following open access transmission tariff filings:

Docket Numbers: OA08-153-000.

Applicants: Public Service Company of New Mexico.

Description: Public Service Company of New Mexico submits First Revised Sheet 2 et al. to FERC Electric Tariff, Second Revised Volume 6 to their Open Access Transmission Tariff under OA08-153.

Filed Date: 09/05/2008.

Accession Number: 20080910-0074.

Comment Date: 5 p.m. Eastern Time on Friday, September 26, 2008.

Docket Numbers: OA08-153-000.

Applicants: Public Service Company of New Mexico.

Description: Public Service Company of New Mexico submit amendments to its Second Revised Volume 6 Open Access Transmission Tariff to reflect the changes required by the Commission's Order 890-B.

Filed Date: 09/08/2008.

Accession Number: 20080910-0073.

Comment Date: 5 p.m. Eastern Time on Monday, September 29, 2008.

Docket Numbers: OA08-154-000.

Applicants: Arizona Public Service Company.

Description: Arizona Public Service Co submits compliance filing with revisions to its Fourteenth Revised Volume 2 Open Access Transmission Tariff etc pursuant to Order 890-B.

Filed Date: 09/08/2008.

Accession Number: 20080911-0106.

Comment Date: 5 p.m. Eastern Time on Monday, September 29, 2008.

Docket Numbers: OA08-155-000.

Applicants: Tieton Hydropower, LLC.

Description: Tieton Hydropower, LLC's Petition to Waive Open Access Tariff Filing Requirement.

Filed Date: 09/11/2008.

Accession Number: 20080911-5095.

Comment Date: 5 p.m. Eastern Time on Thursday, October 2, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E8-27808 Filed 11-21-08; 8:45 am]

BILLING CODE 6717-01-P